FEDERAL COMMUNICATIONS COMMISSION

47 CFR Parts 1 and 27

[WT Docket No. 00-230; DA 04-75]

Promoting Efficient Use of Spectrum Through Elimination of Barriers to the Development of Secondary Markets

AGENCY: Federal Communications Commission.

ACTION: Final rule; delay of effective date.

SUMMARY: The effective date of various rules adopted in the Secondary Markets Proceeding, WT Docket No. 00-230, that was otherwise scheduled to become effective at an earlier date, has been delayed because this rule has been classified as a major rule subject to congressional review.

DATES: The effective date of the rules published on November 25, 2003 at 68 FR 66252, except for the amendments to §§ 1.913(a), 1.913(a)(3), 1.2002(d), 1.2003, 1.9003, 1.9020(e), 1.9030(e) and 1.9035(e), was delayed from January 26, 2004 to February 2, 2004.

FOR FURTHER INFORMATION CONTACT: Katherine M. Harris, Mobility Division, at 202-418-0620.

SUPPLEMENTARY INFORMATION: This is a summary of the Commission's Public Notice, DA 04-75, released on January 15, 2004. The full text of the Public Notice is available for inspection and copying during normal business hours in the Federal Communications Commission Reference Center, 445 12th Street, SW., Washington, DC 20554. The complete text may be purchased from the Federal Communications Commission's copy contractor, Qualex International, 445 12th Street, SW., Room CY-B402, Washington, DC 20554. The full text may also be downloaded at http://wireless.fcc.gov. Alternative formats are available to persons with disabilities by contacting Brian Millin at (202) 418-7426 or TTY (202) 418-7365 or at bmillin@fcc.gov.

1. On October 6, 2003, the Commission released a Report and Order and Further Notice of Proposed Rulemaking, 68 FR 66252 (November 25, 2003) in WT Docket No. 00-230, In the Matter of Markets (Secondary Markets Report and Order). A summary of the Secondary Markets Report and Order portion of the Further Notice of Proposed Rulemaking prescribed that, except for §§ 1.913(a), 1.913(a)(3), 1.948(j), 1.2002(d), 1.2003, 1.9003, 1.9020(e), 1.9030(e), and 1.9035(e) of the Commission's rules, the various rules adopted in the Secondary Markets Report and Order were to be effective January 26, 2004.

2. In order to comply with the requirements of the Congressional Review Act under the Contract with America Advancement Act of 1996, see 5 U.S.C. 801(a)(3), the effective date of the rules that otherwise currently were to become effective on January 26, 2004 was delayed to February 2, 2004. The effective dates of §§ 1.913(a), 1.913(a)(3), 1.948(j), 1.2002(d), 1.2003, 1.9003, 1.9020(e), 1.9030(e), and 1.9035(e) of the Commission's rules are not affected by this extension of the effective date for all other rules adopted in the Secondary Markets Report and Order.

List of Subjects

47 CFR Part 1

Administrative practice and procedure, Communications common carriers, Radio, Reporting and recordkeeping requirements, Telecommunications.

47 CFR Part 27

Communications common carriers, Radio.

Federal Communications Commission.
Katherine M. Harris,
Deputy Division Chief.

[FR Doc. 04-2640 Filed 2-11-04; 8:45 am]

BILLING CODE 6712-01-P